DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of State Research and Development.

OMB Control Number: 0607-0933.

Form Number(s): SRD-1.

Type of Request: Reinstatement, without change, of an expired collection.

Burden Hours: 958.

Number of Respondents: 552.

Average Hours per Response: 1 hour and 44 minutes.

Needs and Uses: The U.S. Census Bureau is requesting a reinstatement of the collection of state government research and development (R&D) expenditures that is conducted by the Census Bureau and for the benefit of the National Science Foundation (NSF).

This collection is authorized under Title 13, Section 8(b) of the United States Code, which allows the Secretary of Commerce to “make special statistical compilations and surveys, for departments, agencies and establishments of the Federal Government.” Title 15, Section 1525 of the United States Code also authorizes the Secretary of Commerce “upon the request of any person, firm, organization, or others, public or private, to make special studies on matters within the authority of the Department of Commerce.”

The NSF Act of 1950 includes a statutory charge to “provide a central clearinghouse for the collection, interpretation, and analysis of data on scientific and engineering resources and to provide a source of information for policy formulation by other agencies in the Federal Government.” Under the aegis of this legislative mandate, NSF and its predecessors have sponsored surveys of R&D since 1953, including the Survey of Industrial Research and Development and the Survey of State Research and Development Expenditures. This survey has helped to expand the scope of R&D collections to include state governments, where previously there had been no established collection efforts.

NSF sponsors surveys of R&D activities of Federal agencies, higher education institutions, and private industries. The data collected from this survey instrument fills the void that previously existed for collection of R&D activities at the state government department or agency level. The results of these surveys provide a consistent information base for government officials, industry professionals, and researchers to use in formulating public policy and planning in science and technology. These surveys allow for the analysis of current and historical trends in research and development in the U.S., as well as, comparisons with other countries.

The Census Bureau, serving as collection agent, employs a methodology similar to the one used to collect information from state and local governments on established censuses and surveys. This methodology involves identifying a central coordinator in each state who will assist Census Bureau staff in identifying appropriate state departments/agencies to survey. These state contacts also verify data responses and assist with nonresponse follow-up. The collection approach using a central state contact is used successfully at the Census Bureau in surveys of local school districts, municipal and county governments, and state government finances.

Items on the survey form include research and development expenditures according to the source of funding, by performer of the work (internal and external to state agencies), and by character (i.e., basic, applied, or developmental). Final results produced by NSF contain state and national estimates and are useful to a variety of data users interested in research and development performance including: the National Science Board; the Office of Management and Budget; the Office of Science and Technology Policy and other science policy makers; institutional researchers; and private organizations.

Legislators, policy officials, and researchers rely on statistics to make informed decisions about R&D investment at the Federal, state, and local level. These statistics are derived from the existing NSF sponsored surveys of Federal agencies, higher education institutions, and private industry. The total picture of R&D expenditures, however, had been incomplete due to the lack of relevant and timely data from state governments prior to this survey collection, which now fills that void.

State government officials and policy makers garner the most benefit from the results of this survey. Governors and legislatures need a reliable, comprehensive source of data to help in evaluating how best to attract the high-tech, R&D industries to their state. Officials are able to evaluate their investment in R&D based on comparisons with other states. These comparisons include the sources of funding, the type of R&D being conducted, and the actual performer of the work.

The information collected from the Survey of State R&D is used at the Federal level to assess and direct investment in technology and economic issues. Congressional committees and the Congressional Research Service use results of the R&D surveys extensively. Inquiries made to NSF by congressional staff concerning industry and academic data are well documented. In addition, officials from several Federal agencies make use of the data.

NSF also uses data from this survey in various publications produced about the state of R&D in the U.S. The Science and Engineering Indicators series, for example, is a biennial report mandated by Congress and describes quantitatively the condition of the country's R&D efforts. Results are also likely to be included in the National Patterns of Research and Development Resources tabulations and in the Science and Engineering Indicators report.

Private industry, either individually or through trade associations, will also find these data useful, particularly statistics concerning funds transferred from state agencies to businesses. The current R&D surveys often receives prominent mention in industry publications such as Research and Development magazine, which releases its “State of Global R&D” report.

The availability of state R&D data on the Internet makes this survey visible to several other users, as well. Media, university researchers, nonprofit organizations, and foreign government officials are also consumers of state R&D statistics. All users are able to utilize this information in an attempt to better understand the nation's R&D resources.

Affected Public: State, local or Tribal Government.

Frequency: Biennially.

Respondent's Obligation: Voluntary.

Legal Authority: 13 U.S.C., Section 8(b); 15 U.S.C., Section 1525; NSF Act of 1950.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin,

OMB Desk Officer either by fax (202-395-7245) or e-mail (bharrisk@omb.eop.gov).

Dated: February 12, 2010.
Glenna Mickelson,
Management Analyst, Office of the Chief Information Officer.

[FR Doc. 2010-3155 Filed 2-18-10; 8:45 am]

BILLING CODE 3510-07-P